SURFACE TRANSPORTATION BOARD

[Docket No. FD 36256]

Central Railroad Company of Indianapolis—Change in Operators Exemption—Kokomo Rail, LLC

Central Railroad Company of Indianapolis (CERA), a Class III rail carrier, has filed a verified notice of exemption under 49 CFR 1150.41 to assume operations over approximately 12.59 miles of track owned by Kokomo Rail, LLC (Kokomo Rail), extending from milepost 147.07 in Amboy, Ind., to milepost 134.48 in Marion, Ind. (the Line).

According to CERA, the Line previously was leased to, and operated by, US RAIL Corporation (US Rail) until its lease expired on November 25, 2018. See U.S. Rail Corp.—Lease & Operation Exemption—Winamac S. Ry., FD 35205 (STB served Dec. 31, 2008), corrected, FD 35205 (STB served Jan. 15, 2009). CERA states that, since then, Kokomo Rail has been providing service on an interim basis.¹ CERA states that it will provide its own common carrier service over the Line pursuant to a lease to be executed shortly, and that it will begin operations on receipt of all regulatory approvals or exemptions. CERA states that US Rail does not object to the proposed change in operators and will no longer operate over the Line.

¹ CERA states that, because Kokomo Rail currently does not have railroad employees or equipment, Kokomo Rail has retained CERA to provide the interim common carrier service in the name and on behalf of Kokomo Rail.

CERA states that there are no existing interchange commitments with any connecting carriers and that none will be required as part of this transaction. CERA certifies that its projected annual revenues as a result of the transaction will not exceed those that would qualify it as a Class III carrier and will not exceed $5 million.

Under 49 CFR 1150.42(b), a change in operator requires that notice be given to shippers. CERA certifies that it has provided notice of the proposed change in operators to Kokomo Grain, the only known shipper on the Line.

The earliest this transaction may be consummated is February 27, 2019 (30 days after the verified notice was filed).²

² CERA submitted the verified notice during the partial shutdown of the Federal government from December 22, 2018, through January 25, 2019. Filings submitted during the partial shutdown are considered filed on January 28, 2019. See Filings Submitted or Due to Be Submitted During the Partial Fed. Gov't Shutdown, EP 751 (STB served Jan. 28, 2019).

If the verified notice contains false or misleading information, the exemption is void ab initio. Petitions to revoke the exemption under 49 U.S.C. 10502(d) may be filed at any time. The filing of a petition to revoke will not automatically stay the effectiveness of the exemption. Petitions for stay must be filed no later than February 20, 2019 (at least seven days before the exemption becomes effective).

An original and 10 copies of all pleadings, referring to Docket No. FD 36256, must be filed with the Surface Transportation Board, 395 E Street SW, Washington, DC 20423-0001. In addition, one copy of each pleading must be served on Eric M. Hocky, Clark Hill PLC, One Commerce Square, 2005 Market Street, Suite 1000, Philadelphia, PA 19103.

According to CERA, this action is excluded from environmental review under 49 CFR 1105.6(c) and from historic preservation reporting requirements under 49 CFR 1105.8(b)(1).

Board decisions and notices are available at www.stb.gov.

Decided: February 7, 2019.
By the Board, Allison C. Davis, Acting Director, Office of Proceedings.
Brendetta Jones,
Clearance Clerk.

[FR Doc. 2019-02155 Filed 2-12-19; 8:45 am]

BILLING CODE 4915-01-P